DEPARTMENT OF TRANSPORTATION

Federal Highway Administration

Environmental Impact Statement; Pennington County, SD; Pennington County, Maine

AGENCY: Federal Highway Administration (FHWA), DOT.

ACTION: Notice to rescind Environmental Impact Statement.

SUMMARY: The FHWA is issuing this notice to advise the public that we are rescinding the Notice of Intent (NOI) to prepare an Environmental Impact Statement (EIS) for roadway improvements proposed for South Rochford Road in Pennington County, South Dakota. The NOI was published in the Federal Register on January 30, 2012. A Draft Environmental Impact Statement (DEIS) was not released. This rescission is based on changes to the design standards that have brought the proposed action below the threshold of an EIS.

FOR FURTHER INFORMATION CONTACT: Marion Barber, Environmental Specialist, FHWA, 116 East Dakota Avenue, Suite A, Pierre, SD 57501, (605) 224-8033. Further information can be found and comments can be submitted via the project Web site at: http://www.southrochfordroad.com/.

SUPPLEMENTARY INFORMATION: The FHWA, in cooperation with the South Dakota Department of Transportation (SDDOT) and Pennington County, is rescinding the NOI for a proposal to make improvements to the South Rochford Road in Pennington County, South Dakota. The previous proposed action provided for reconstruction of approximately 10 miles of roadway between the Town of Rochford and the intersection with Deerfield Road in accordance with the SDDOT Road Design Manual. The NOI is being rescinded due to modifications to the design standards that will provide for historic preservation, reduced wetland impacts, and preservation of sensitive plant species currently protected by the United States Forest Service.

The current proposed action would reconstruct the same 10 miles of roadway using the American Association of State Highway and Transportation Officials (AASHTO) Guidelines for Geometric Design of Very Low-Volume Local Roads. These guidelines provide for a reduced roadway width that is more consistent with similar low volume surfaced roadways in Pennington County. The proposed action would maintain the intended purpose of this action to improve year-round access to the Town of Rochford from the Deerfield Lake area by reconstructing the two-lane roadway, providing an all-weather surface, and improving drainage and drainage structures. SDDOT will offer an opportunity for a public meeting on the proposal to rescind the EIS which will be advertised through the local media along with a notification on the to the project Web site. Given the reduction in scope and the associated potential impacts of the proposed action, FHWA intends to prepare a lower-level NEPA document to determine if the project has the potential to significantly affect the quality of the human environment. If, at a future time, FHWA determines that the proposed action is likely to have a significant impact on the environment, a new NOI to prepare an EIS will be published.

Comments or questions concerning this rescission or the proposed action should be submitted through the project Web site at http://www.southrochfordroad.com or directed to the address provided above under the caption FOR FURTHER INFORMATION CONTACT.

Authority: 23 U.S.C. 315; 49 CFR 1.48.

Issued on: December 10, 2015.
Mark J. Clausen,
Engineering and Operations Supervisor, Federal Highway Administration, Pierre, South Dakota.

[FR Doc. 2015-31698 Filed 12-16-15; 8:45 am]

BILLING CODE 4910-22-P